DEPARTMENT OF AGRICULTURE

Animal and Plant Health Inspection Service

[Docket No. APHIS-2007-0044]

Draft Environmental Impact Statement; Determination of Regulated Status of Alfalfa Genetically Engineered for Tolerance to the Herbicide Glyphosate

AGENCY: Animal and Plant Health Inspection Service, USDA.

ACTION: Notice; extension of comment period and rescheduled public meeting.

SUMMARY: We are extending the comment period for our notice of availability of a draft environmental impact statement in connection with making a determination on the status of the Monsanto Company and Forage Genetics International alfalfa lines designated as events J101 and J163 as regulated articles. This notice also provides notice that a public meeting scheduled for February 9, 2010, has been rescheduled for February 24, 2010.

DATES: We will consider all comments that we receive on or before March 3, 2010. We will also consider comments made at the rescheduled public meeting to be held on February 24, 2010, from 4 p.m. to 7 p.m., local time.

ADDRESSES: The public meeting will be held in the USDA Center at Riverside, 4700 River Road, Riverdale, MD, 20737. You may also submit written comments on the draft environmental impact statement by either of the following methods:

• Federal eRulemaking Portal: Go to (http://www.regulations.gov/fdmspublic/component/main?main=DocketDetail&d=APHIS-2007-0044) to submit or view comments.

• Postal Mail/Commercial Delivery: Please send a copy of your comment to Docket No. APHIS-2007-0044, Regulatory Analysis and Development, PPD, APHIS, Station 3A-03.8, 4700 River Road Unit 118, Riverdale, MD 20737-1238. Please state that your comment refers to Docket No. APHIS-2007-0044.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: Dr. Andrea Huberty, Branch Chief, Regulatory and Environmental Analysis Branch, BRS, APHIS, 4700 River Road Unit 146, Riverdale, MD 20737; (301) 734-0485.

SUPPLEMENTARY INFORMATION: On January 12, 2010, we published in the Federal Register (APHIS-2007-0044, 75 FR 1585-1586) a notice of availability of a draft environmental impact statement (EIS) in connection with making a determination on the status of the Monsanto Company and Forage Genetics International alfalfa lines designated as events J101 and J163 as regulated articles.

Comments on the draft EIS were required to be received on or before February 16, 2010. We are extending the comment period on the draft EIS until March 3, 2010. This action will allow interested persons additional time to prepare and submit comments.

A notice regarding this extension of the comment period was also published by the Environmental Protection Agency in the Federal Register on February 5, 2010 (75 FR 6026-6027; Docket No. ER-FRL-8987-9).

Rescheduled Public Meeting

The notice of availability of the draft EIS also provided notice of four public meetings. The last of these meetings was scheduled for Tuesday, February 9, 2010, in the USDA Center at Riverside, 4700 River Road, Riverdale, MD, 20737, from 4 p.m. to 7 p.m., local time. However, this meeting was postponed due to inclement weather, and has been rescheduled for Wednesday, February 24, 2010, from 4 p.m. to 7 p.m., local time. The location of the meeting remains the same, as do the policies and procedures set forth for the meeting in our earlier notice.

Parking and Security Procedures

Please note that a fee of $4 in exact change is required to enter the parking lot at the USDA Center at Riverside. The machine accepts $1 bills or quarters.

Upon entering the building, visitors should inform security personnel that they are attending the public meeting regarding the regulated status of alfalfa genetically engineered for tolerance to the herbicide glyphosate. State issued photo identification is required and all bags will be screened. Security personnel will direct people to the registration tables. Registration upon arrival is required for all participants.

Done in Washington, DC, this 18th day of February 2010.

Kevin Shea
Acting Administrator, Animal and Plant Health Inspection Service.

[FR Doc. 2010-3659 Filed 2-23-10: 7:32 am]

BILLING CODE: 3410-34-S